COMMODITY FUTURES TRADING COMMISSION

Sunshine Act Meetings

TIME AND DATE: 9:00 a.m., Wednesday, December 18, 2019.

PLACE: CFTC Headquarters, Lobby-Level Hearing Room, Three Lafayette Centre, 1155 21st Street NW, Washington, DC.

STATUS: Open.

MATTERS TO BE CONSIDERED: The Commodity Futures Trading Commission (“Commission” or “CFTC”) will hold this meeting to consider the following matters:

• Final Rule: Amendments to Derivatives Clearing Organization General Provisions and Core Principles;

• Proposed Rule: Prohibition on Post-Trade Name Give-Up on Swap Execution Facilities;

• Proposed Rule: Cross-Border Application of the Registration Thresholds and Certain Requirements Applicable to Swap Dealers and Major Swap Participants; and

• Request for Comment on Designated Foreign Sovereign Debt as Collateral and Acceptable Currencies for Collateral and Settlement.

The agenda for this meeting will be available to the public and posted on the Commission's website at https://www.cftc.gov. In the event that the time, date, or place of this meeting changes, an announcement of the change, along with the new time, date, or place of the meeting, will be posted on the Commission's website.

CONTACT PERSON FOR MORE INFORMATION: Christopher Kirkpatrick, Secretary of the Commission, 202-418-5964.

(Authority: 5 U.S.C. 552b.)

Dated: December 11, 2019.
Christopher Kirkpatrick,
Secretary of the Commission.

[FR Doc. 2019-27077 Filed 12-11-19; 4:15 pm]

BILLING CODE 6351-01-P